DEPARTMENT OF COMMERCE

National Oceanic and Atmospheric Administration

[RTID 0648-XC548]

Endangered Species; File No. 22671

AGENCY: National Marine Fisheries Service (NMFS), National Oceanic and Atmospheric Administration (NOAA), Commerce.

ACTION: Notice; receipt of application for a permit modification.

SUMMARY: Notice is hereby given that U.S. Geological Survey, Conte Anadromous Fish Research Laboratory, 1 Migratory Way, Turners Falls, MA 01376, (Responsible Party: Alexander Haro, Ph.D.), has requested a modification to scientific research Permit No. 22671-02.

DATES: Written, telefaxed, or emailed comments must be received on or before December 15, 2022.

ADDRESSES: The modification request and related documents are available for review by selecting “Records Open for Public Comment” from the Features box on the Applications and Permits for Protected Species (APPS) home page, https://apps.nmfs.noaa.gov, and then selecting File No. 22671 mod 4 from the list of available applications. These documents are also available upon written request via email to NMFS.Pr1Comments@noaa.gov.

Written comments on this application should be submitted via email to NMFS.Pr1Comments@noaa.gov. Please include File No. 22671 in the subject line of the email comment.

Those individuals requesting a public hearing should submit a written request via email to NMFS.Pr1Comments@noaa.gov. The request should set forth the specific reasons why a hearing on this application would be appropriate.

FOR FURTHER INFORMATION CONTACT: Malcolm Mohead or Erin Markin, Ph.D., (301) 427-8401.

SUPPLEMENTARY INFORMATION: The subject modification to Permit No. 22671-02, issued on January 31, 2020 (85 FR 7978, February 12, 2020), is requested under the authority of the Endangered Species Act of 1973, as amended (16 U.S.C. 1531 et seq.) and the regulations governing the taking, importing, and exporting of endangered and threatened species (50 CFR parts 222-226).

Permit 22671-02 authorizes the permit holder to study the presence, life history, population size, migration, physiology, and passage of wild shortnose sturgeon (Acipenser brevirostrum) in the Connecticut River. The permit also authorizes use of captive (non-releasable) shortnose sturgeon for research and enhancement objectives. In research conducted on wild fish, researchers may use gill nets and trawls to capture juvenile and adult/sub-adult shortnose sturgeon to measure, weigh, passive integrated transponder tag (PIT), borescope, genetic tissue and blood sample, and photograph prior to release. A subset of animals may also be anesthetized and receive internal acoustic transmitters. Early life stages (ELS) may be lethally sampled with D-nets and egg mats to document spawning incidence. Up to two juvenile and one adult or sub-adult sturgeon may unintentionally die annually during research activities. The permit holder requests new authorization between the Holyoke Dam to Agawam, Massachusetts to add new objectives and take, including (1) determining the range, ecology, habitat, and recruitment of juvenile shortnose sturgeon life stages; (2) using egg mat and D-net samplers to collect 150 ELS below the Holyoke Dam; (3) capturing up to 200 young-of-year and older juvenile shortnose sturgeon annually using gillnets, mini-trawl, beach seine, and cast-net sampling gear. Up to 175 of these would be PIT tagged, measured, photographed, fin clipped, and weighed, and up to 25 would be anesthetized and internally tagged before being released; (4) capturing up to 50 adult/sub-adult shortnose sturgeon annually, adding procedures, including borescope; PIT tag; measure; photo/video; fin clip (genetic) and weigh. Additionally, up to five of these fish, having expired acoustic transmitters, may also have them surgically reimplanted under anesthesia; and (5) anesthetizing and implanting acoustic tags in up to 20 adult/sub-adult shortnose sturgeon approaching the Holyoke Dam aggregation; and (6) performing additional procedures, including measure, weigh, PIT tag, photo, genetic tissue sample, and borescope, on up to 20 adult/sub-adult shortnose sturgeon collected under another authority in the Holyoke Dam fish lift. The permit is valid through March 31, 2029.

Dated: November 9, 2022.
Julia M. Harrison,
Chief, Permits and Conservation Division, Office of Protected Resources, National Marine Fisheries Service.

[FR Doc. 2022-24810 Filed 11-14-22; 8:45 am]

BILLING CODE 3510-22-P